DEPARTMENT OF COMMERCE

Foreign-Trade Zones Board

Docket 42-2007

Foreign-Trade Zone 107 - Des Moines, Iowa, Application for Subzone Status, SPAL USA, Inc., (Vehicle Parts Distribution and Processing), Ankeny, Iowa

An application has been submitted to the Foreign-Trade Zones Board (the Board) by the Iowa Foreign-Trade Zone Corporation, grantee of FTZ 107, requesting special-purpose subzone status for the vehicle parts distribution and processing (kitting) facility of SPAL USA, Inc. (SPAL), located in Ankeny, Iowa. The application was submitted pursuant to the provisions of the FTZ Act, as amended (19 U.S.C. 81a-81u), and the regulations of the Board (15 CFR Part 400). It was formally filed on August 23, 2007.

The SPAL facility (28 employees, 5.5 acres) is located at 1731 SE Oralabor Road (1 building, 5.5 acres, 36,000 sq. ft.) in Ankeny, Iowa. The facility is used for the warehousing, distribution, repair and possible processing (i.e., kitting) of foreign-origin and domestic vehicle parts and equipment for the U.S. market and export. FTZ procedures would be utilized to support SPAL's Iowa-based distribution activity that competes with facilities located abroad.

Finished vehicle parts to be admitted to the proposed subzone for distribution and processing would include circuit connectors, motorized linear actuators, motor assemblies, door cutters, power door lock kits/window kits, radio remote control apparatus, switches/switch kits and accessories, screws, wire, trade advertising material, control valve pressure sensors, and automotive fans and blowers (duty rates range: duty-free to 6.2%%).

SPAL could also conduct certain kitting operations under FTZ procedures in the future (e.g., combine foreign-origin fans and blowers with a domestic harness and combine foreign circuit connectors with a domestic harness). Kitting would be limited to foreign components included in the list of finished vehicle parts in the preceding paragraph.

FTZ procedures would exempt SPAL from Customs duty payments on foreign products that are re-exported. Some ten percent of the plant's shipments are exported. On domestic sales, the company would be able to defer payments until merchandise is shipped from the facility and entered for U.S. consumption. For its processing activity, SPAL would be able to elect the duty rate that applies to finished products for the foreign-sourced inputs noted above. SPAL also plans to realize logistical benefits through the use of weekly entry procedures. The application indicates that all of the above-cited savings from FTZ procedures would help improve the facility's international competitiveness.

In accordance with the Board's regulations, a member of the FTZ Staff has been designated examiner to investigate the application and report to the Board.

Public comment on the application is invited from interested parties. Submissions (original and 3 copies) shall be addressed to the Board's Executive Secretary at the address below. The closing period for their receipt is October 30, 2007. Rebuttal comments in response to material submitted during the foregoing period may be submitted during the subsequent 15-day period to November 14, 2007.

A copy of the application and accompanying exhibits will be available for public inspection at each of the following locations: U.S. Department of Commerce Export Assistance Center, 210 Walnut Street, Suite 749, Des Moines, Iowa 50309; and, the Office of the Executive Secretary, Foreign-Trade Zones Board, U.S. Department of Commerce, Room 2111, 1401 Constitution Avenue, NW., Washington, DC 20230.

For further information, contact Kathleen Boyce at (202) 482-1346 or Kathleen_Boyce@ita.doc.gov.

Dated: August 23, 2007.
Andrew McGilvray,
Executive Secretary.

[FR Doc. E7-17333 Filed 8-30-07; 8:45 am]

BILLING CODE 3510-DS-S